DEPARTMENT OF JUSTICE

Antitrust Division

Notice Pursuant to the National Cooperative Research and Production Act of 1993—Mobile Imaging and Printing Consortium, Inc.

Notice is hereby given that, on September 17, 2004, pursuant to section 6(a) of the National Cooperative Research and Production Act of 1993, 15 U.S.C. 4301 et seq. (“the Act”), Mobile Imaging and Printing Consortium, Inc. (“MIPC”) has filed written notificationssimultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Mobile Imaging and Printing Consortium, Inc., Escondido, CA. The nature and scope of MIPC's standards development activities are: (a) To promote and support the development and adoption of implementation guidelines relating to the direct printing of images and other content from Mobile Terminal Devices (defined below) to home printers (the “Deliverables”); for purposes of this notice, “Mobile Terminal Devices” means mobile phones (with or without camera features) and other handheld mobile devices with image capture or transfer capabilities and long distance wireless connectivity; (b) to promote such Deliverables and other solutions worldwide to ensure that a broad spectrum of goods and services that are compliant with the Deliverables is developed; (c) to ensure the compliance of goods and services with the Deliverables through the dissemination and promotion of high-quality and unambiguous Deliverables; (d) to promote confidence in products designed in compliance with the Deliverables; (e) to create high customer awareness of, demand for, and confidence in products designed in compliance with Deliverables; (f) to create a variety of printed and/or electronic materials relating to the Deliverables for distribution to members and non-members of the Corporation; (g) to maintain its own Web site; (h) to coordinate marketing activities and create marketing materials relating to the promotion of the Deliverables; (i) to establish and maintain formal relations with (and, as appropriate, leverage off of standards developed by) other standard setting consortia to ensure coherence among the Deliverables and specifications and implementation guidelines of such other organizations; and (j) to undertake such other activities as may from time to time be appropriate to further the purposes and achieve the goals set forth above.

Dorothy B. Fountain,
Deputy Director of Operations, Antitrust Division.

[FR Doc. 04-24571 Filed 11-2-04; 8:45 am]

BILLING CODE 4410-11-M